DEPARTMENT OF TRANSPORTATION

Federal Highway Administration

[Docket No. FHWA-2025-0006]

Agency Information Collection Activities: Request for Comments for a New Information Collection

AGENCY: Federal Highway Administration (FHWA), Department of Transportation (DOT).

ACTION: Notice and request for comments.

SUMMARY: The FHWA has forwarded the information collection request described in this notice to the Office of Management and Budget (OMB) to approve a new information collection. We are required to publish this notice in the Federal Register by the Paperwork Reduction Act of 1995.

DATES: Please submit comments by June 16, 2025.

ADDRESSES: You may submit comments identified by DOT Docket ID Number 0006 by any of the following methods:

Website: For access to the docket to read background documents or comments received go to the Federal eRulemaking Portal: Go to https://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Karen Holmes, Office of Administration, Federal Highway Administration, Department of Transportation, (304) 964-3234 or via email at karen.holmes@dot.gov. Office hours are from 7 a.m. to 4 p.m., Monday through Friday, except Federal holidays.

SUPPLEMENTARY INFORMATION: We published a Federal Register Notice with a 60-day public comment period on this information collection on December 2, 2024, at 89 FR 95347. The notice received no comments.

Title: Federal Highway Administration (FHWA) Performance Progress Report (PPR) form.

Background: FHWA is administering over 40 competitive grant and cooperative agreement programs, including those established under the Infrastructure Investment and Jobs Act (November 15, 2021, Pub. L. 117-58) and the Inflation Reduction Act, 2022 (August 16, 2022, Pub. L. 117-169). The Uniform Administrative Requirements in 2 CFR part 200 require recipients of Federal financial assistance awards to monitor activities under Federal awards to ensure compliance with applicable Federal requirements and performance expectations are being achieved. In addition, the regulations require Federal awarding agencies, such as FHWA, to use OMB-approved common information collections. The FHWA PPR form will be used by recipients of FHWA grant awards and cooperative agreements to report performance and progress of a Federal financial assistance-funded construction or non-construction project.

Respondents: Recipients of a competitive grant or cooperative agreement award administered by FHWA. Competitive grant or cooperative agreement recipients include but are not limited to State DOTs as defined in 23 U.S.C. 101, U.S. Territories, federally recognized Tribes, and other entities identified as eligible for Federal financial assistance from FHWA.

Frequency: The information will be collected quarterly, semiannually, or annually, as required by the Notice of Funding Opportunity (NOFO) for the grant program.

Estimated Average Burden per Response: 1 hour per respondent per form per grant or cooperative agreement award. This includes time to review the form instructions, research existing sources to gather necessary data, complete and review the form before submitting to FHWA.

Estimated Total Annual Burden Hours: It is expected that approximately 2,500 respondents will complete up to 4 PPR forms for a up to 10 grant awards per respondent for an estimated total of 100,000 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on May 13, 2025.
Jazmyne Lewis,
Information Collection Officer.

[FR Doc. 2025-08806 Filed 5-15-25; 8:45 am]

BILLING CODE 4910-22-P